DEFENSE BASE CLOSURE AND REALIGNMENT COMMISSION

Notice of the Defense Base Closure and Realignment Commission—Cancellation of an Open Meeting

AGENCY: Defense Base Closure and Realignment Commission.

ACTION: Notice; Defense Base Closure and Realignment Commission—Cancellation of Open Meeting (Salt Lake City, UT).

SUMMARY: Notice is hereby given that the previously announced open meeting of a delegation of the 2005 Defense Base Closure and Realignment Commission scheduled for June 6, 2005 from 2 p.m. to 4:30 p.m. in Salt Lake City, Utah, has been cancelled. After extensive coordination with the various Federal, state and local officials concerned, the Commission determined that it was not possible to hold a meaningful public discussion on the date scheduled because Congressional delegations and community representatives had not been afforded adequate opportunity to analyze the data used by the Department of Defense (DoD) to formulate the base closure and realignment recommendations due to delays by DoD in releasing that data in an unclassified form. The Utah and Idaho Congressional delegations have been offered the opportunity to participate in the regional hearing currently scheduled in Portland, Oregon on June 17, 2005.

The delay of this notice resulted from unanticipated delays by DoD in the release of the data used by DoD to formulate the base closure and realignment recommendations in an unclassified form and the short time-frame established by statute for the operations of the Defense Base Closure and Realignment Commission. The Commission requests that the public consult the 2005 Defense Base Closure and Realignment Commission Web site, http://www.brac.gov, for updates.

DATES: Not applicable.

ADDRESSES: Not applicable.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street, Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Dated: June 6, 2005.
Jeannette Owings-Ballard,
Administrative Support Officer.

[FR Doc. 05-11625 Filed 6-10-05; 8:45 am]

BILLING CODE 5001-06-P